ENVIRONMENTAL PROTECTION AGENCY

40 CFR Part 52

[PA-4091; FRL-8042-4]

Approval and Promulgation of Air Quality Implementation Plans; Pennsylvania; VOC and NOX RACT Determinations for Twenty-Six Individual Sources; Partial Withdrawal of Proposed Rule for Three Sources

AGENCY: Environmental Protection Agency (EPA).

ACTION: Partial withdrawal of proposed rule.

SUMMARY: On April 18, 2000, EPA published a proposed rule (65 FR 20788) to approve reasonably available control technology (RACT) determinations submitted by the Pennsylvania Department of Environmental Protection (DEP) for twenty-six major sources of nitrogen oxides (NOX) and/or volatile organic compounds (VOC). In separate final rules, EPA has already approved the RACT determinations for ten of the twenty-six sources covered by the April 18, 2000 proposed rule. In the rules portion of today's Federal Register, EPA is approving the RACT determinations for an additional thirteen of twenty-six sources covered by the April 18, 2000 proposed rule. EPA is hereby withdrawing its April 18, 2000 proposed rule with regard to the remaining three sources. The April 18, 2000 (65 FR 20788) proposed rule is being withdrawn with regard to Doverspike Brothers Coal Co., Hedstrom Corporation, and the thermal coal dryers at EME Homer City, LP. These three formerly RACT-subject sources have been permanently shut down and the Pennsylvania DEP has indicated to EPA that no RACT need be approved for them.

DATES: Effective Date: The proposed rule for Doverspike Brothers Coal Co., Hedstrom Corporation, and the thermal coal dryers at EME Homer City published at 65 FR 20788 is withdrawn as of March 8, 2006.

FOR FURTHER INFORMATION CONTACT: Marcia L. Spink, (215) 814-2104, or by e-mail at spink.marcia@epa.gov.

SUPPLEMENTARY INFORMATION: See the information provided in the proposed rule located in the Proposed Rules section of the April 18, 2000 Federal Register (65 FR 20788). EPA is withdrawing the proposed rule for only three sources, namely, Doverspike Brothers Coal Co., Hedstrom Corporation and the thermal coal dryers at EME Homer City, LP. These formerly RACT-subject sources have been permanently shut down and the Pennsylvania DEP has indicated to EPA that no RACT need be approved for them. The other actions in the April 18, 2000 Federal Register are not affected.

List of Subjects in 40 CFR Part 52

Environmental protection, Air pollution control, Incorporation by reference, Nitrogen dioxide, Ozone, Reporting and recordkeeping requirements, Volatile organic compounds.

Dated: February 28, 2006.
William Early,
Acting Regional Administrator, Region III.

[FR Doc. 06-2149 Filed 3-7-06; 8:45 am]

BILLING CODE 6560-50-P